DEPARTMENT OF HOUSING AND URBAN DEVELOPMENT

[Docket No. FR-4807-N-01]

Draft Model Documents for Mixed-Finance Transactions

AGENCY: Office of the Assistant Secretary for Public and Indian Housing, HUD.

ACTION: Notice of meeting and opportunity to comment.

SUMMARY: The Department of Housing and Urban Development (HUD), invites interested parties to attend a one-day meeting to discuss a set of model documents developed to facilitate the preparation and review of certain evidentiary materials required for mixed-finance transactions. The meeting will be held on January 7, 2003 in Washington, DC. Interested parties may also submit written comments prior to the meeting.

DATES: Comment Due Date: Comments must be submitted on or before January 3, 2003. Meeting Date: Tuesday, January 7, 2003, 9 a.m.-4:30 p.m., in Washington, DC.

ADDRESSES: The meeting will be held on Tuesday, January 7, 2003 from 9 a.m.-4:30 p.m. Marriott Metro Center, 775 12th Street, NW, Washington DC.

In advance of the meeting, HUD welcomes and encourages written comments on the documents. The model documents and a form for comment submission and meeting registration are available at www.hud.gov/offices/pih/programs/ph/hope6/mfph/mf_modeldocs.cfm. Comments may be submitted via fax, mail, or email to: Cynthia Demitros, Department of Housing and Urban Development, Office of Public Housing Investments, 451 Seventh Street SW., Room 4130, Washington, DC 20410, fax: (617) 349-2701, e-mail, Cynthia_J._Demitros@hud.gov. Please submit all comments no later than January 3, 2003 . Although registration is not required, space is limited to 80 attendees. Those interested in attending are urged to complete the section of the comment form indicating the number of participants from their organization that plan to attend.

FOR FURTHER INFORMATION CONTACT: Cynthia J. Demitros, Department of Housing and Urban Development, Office of Public Housing Investments, 451 Seventh Street SW., Room 4130, Washington, DC 20410, telephone, (202) 708-0282 (this is not a toll-free number), e-mail: Cynthia_J._Demitros@hud.gov. For hearing- and speech-impaired persons, this telephone number may be accessed via TTY (text telephone) by calling the toll-free Federal Information Relay Service at 1-800-877-8339.

SUPPLEMENTARY INFORMATION: HUD invites all interested parties to attend a one-day meeting to discuss a set of model documents developed to facilitate the preparation and review of certain evidentiary materials required for mixed-finance transactions pursuant to 24 CFR part 941 subpart F. The model documents may be viewed at http:www.hud.gov/offices/pih/programs/ph/hope6/mfph/mf_modeldocs.cfm. The meeting will be held on Tuesday, January 7, 2003, 9 am-4:30 pm, at Marriott Metro Center, 775 12th Street NW., Washington DC. A panel of HUD staff will conduct this meeting to provide participants an opportunity to present comments and ask questions about the documents. In advance of the meeting, HUD welcomes and encourages written comments on the documents.

Dated: December 20, 2002.
Michael M. Liu,
Assistant Secretary for Public and Indian Housing.

[FR Doc. 02-32835 Filed 12-27-02; 8:45 am]

BILLING CODE 4210-33-P